DEPARTMENT OF HEALTH AND HUMAN SERVICES

Centers for Disease Control and Prevention

[30 Day-13-13TD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

“So What? Telling a Compelling Story” Template—New—Office of Public Health Preparedness and Response (OPHPR), Centers for Disease Control and Prevention (CDC).

Background and Brief Description

Background: Stories are difficult to gather and track; therefore, OPHPR must use a creative method to collect relevant stories on the impacts of the Public Health Emergency Preparedness (PHEP) grant in state and local health departments and at the community level. Several resources and tools exist within CDC and partner organizations to share stories but the stories tend to be dated or already used in another capacity. OPHPR must be proactive in leveraging this template to collect new, timely anecdotes, described as “leads” in the rest of this notice, versus full stories, in order to describe the current successes and challenges public health officials face implementing the PHEP grant and associated activities.

CDC requests Office of Management and Budget (OMB) approval to collect information for three years.

Description: The storytelling template is a single page, double-sided guide for storytellers, described as “sources” in the remainder of this notice. With this tool, developers intend to dramatically reduce the burden on respondents and employees who may otherwise engage in complete story development with each new event. In this manner, staff may tease out pertinent and timely leads for potential development at a later date based on the needs of leadership. Development of a complete story from this template will occur with a small percentage of the leads. The text specifically requested is the source's name, telephone number, email address, organization, job title, the topic of the compelling story, a headline, and up to three key bullet points. The intent of this template is to guide the development of bullets and headlines describing successes, impacts, and other funding-related activities.

The goals of these leads are shaped by four topics:

1. Showcasing the nature of the preparedness and response challenge: Something observed at ground level that clearly illustrates why preparedness and response work is necessary.

2. Illustrating the public health contribution: Examples that prove public health preparedness and response not only makes a difference, but also describe the unique approach public health brings to emergency response.

3. Supporting the evidence-base: Examples that compliment qualitative research on evidence based interventions.

4. Demonstrating return on investment: Leads describing awareness of how funds are used and demonstrating fiscal responsibility and transparency.

OPHPR representatives intend to collect story leads from a variety of sources including CDC Field Staff, state health officers, local health department directors, preparedness planners, non-public health preparedness and response partners, the public and volunteer group members.

The developers plan to leverage existing communications channels if the leads are used or developed into more lengthy stories. Just as stories are used currently, leads from this template will be potentially used in congressional inquiries, leadership presentations, annual reports, and CDC OPHPR Web sites.

There are no costs to respondents other than their time. The total estimated annual burden hours are 95.

Estimated Annualized Burden Hours
Type of respondents | Form name | Number of respondents | Number of responses per respondent | Average burden per response (in hrs.)
CDC Field Staff, state health officers, local health department directors, preparedness planners, non-public health preparedness and response partners, the public and volunteer group members | “So What? Telling a Compelling Story” | 100 | 1 | 30/60
CDC Field Staff, state health officers, local health department directors, preparedness planners, non-public health preparedness and response partners, the public and volunteer group members | “So What? Telling a Compelling Story” Follow-Up Questions | 30 | 1 | 1.5

Leroy Richardson,
Chief, Information Collection Review Office, Office of Scientific Integrity, Office of the Associate Director for Science, Office of the Director, Centers for Disease Control and Prevention.

[FR Doc. 2013-22806 Filed 9-18-13; 8:45 am]

BILLING CODE 4163-18-P